DEPARTMENT OF COMMERCE

National Oceanic and Atmospheric Administration

[I.D. 071806G]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene its Reef Fish Advisory Panel (AP) and its Standing and Special Mackerel and Reef Fish Scientific and Statistical Committees (SSC).

DATES: The meetings will begin at 8:30 a.m. on Tuesday, August 8, 2006 and conclude by 12 noon on Thursday, August 10, 2006.

ADDRESSES: The meeting will be held at the Quorum Hotel, 700 North Westshore Boulevard, Tampa, FL 33607

Council address: Gulf of Mexico Fishery Management Council, 2203 N. Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Council will convene the Standing and Special Mackerel SSC at 8:30 a.m. on Tuesday, August 8, 2006, to consider and possibly make recommendations on a report on mixing and other aspects of a previous stock assessment for king mackerel developed by a special, joint SSC made up of SSC members from the Council and the South Atlantic Fishery Management Council. The Council will then convene the Standing and Special Reef Fish Scientific and Statistical Committee (SSC) and its Reef Fish AP in a joint session on Tuesday, August 8, 2006, from 1 p.m. to 5:30 p.m., to receive presentations of stock assessment results for vermilion snapper, greater amberjack, gray triggerfish, and gag grouper.

Beginning at 8:30 a.m. on August 9, 2006, the Reef Fish AP will discuss these stock assessments and potentially provide recommendations to the Council. The Reef Fish AP will also consider and possibly provide recommendations on alternatives in a Draft Reef Fish Amendment 27/Shrimp Amendment 14 that could: (1) Change the total allowable catch (TAC) for red snapper, (2) change the minimum size limit for red snapper, (3) change the recreational fishing season and bag limit for red snapper, (4) reduce the bag limit of red snapper for captains and crew of for-hire vessels to zero, (5) modify allowable fishing gear to possibly include changes to the type and size of hooks used to harvest red snapper, and (6) cap effort in the shrimp fishery to further reduce bycatch.

Beginning at 8:30 a.m. on August 10, 2006, the Standing and Special Reef Fish SSC will reconvene to discuss and possibly make recommendations regarding the stock assessments for vermilion snapper, greater amberjack, gray triggerfish, and gag grouper and potentially provide recommendations to the Council. The SSC will also consider and possibly provide recommendations on alternatives in a Draft Reef Fish Amendment 27/Shrimp Amendment 14 that could: (1) Change the total allowable catch (TAC) for red snapper, (2) change the minimum size limit for red snapper, (3) change the recreational fishing season and bag limit for red snapper, (4) reduce the bag limit of red snapper for captains and crew of for-hire vessels to zero, (5) modify allowable fishing gear to possibly include changes to the type and size of hooks used to harvest red snapper, and (6) cap effort in the shrimp fishery to further reduce bycatch.

A copy of the agenda and related materials can be obtained by calling the Council office at (813) 348-1630.

Although other non-emergency issues not on the agendas may come before the Standing and Special Reef Fish Scientific and Statistical Committee (SSC) and the Reef Fish Advisory Panel, in accordance with the Magnuson-Stevens Fishery Conservation and Management Act (Magnuson-Stevens Act), those issues may not be the subject of formal action during this meeting. Actions of the Standing and Special Reef Fish Scientific and Statistical Committee (SSC) and the Reef Fish Advisory Panel will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Tina Trezza at the Council (see ADDRESSES) at least 5 working days prior to the meeting.

Dated: July 19, 2006.
Tracey L. Thompson,
Acting Director, Office of Sustainable Fisheries, National Marine Fisheries Service.

[FR Doc. E6-11686 Filed 7-21-06; 8:45 am]

BILLING CODE 3510-22-S